DEPARTMENT OF TRANSPORTATION

Federal Aviation Administration

14 CFR Part 39

[Docket No. FAA-2005-23142; Directorate Identifier 2005-NM-154-AD]

RIN 2120-AA64

Airworthiness Directives; Airbus Model A319-131, -132, and -133; A320-232 and -233; and A321-131 and -231 Airplanes

AGENCY: Federal Aviation Administration (FAA), Department of Transportation (DOT).

ACTION: Notice of proposed rulemaking (NPRM).

SUMMARY: The FAA proposes to adopt a new airworthiness directive (AD) for certain Airbus Model A319-131, -132, and -133; A320-232 and -233; and A321-131 and -231 airplanes. This proposed AD would require inspecting for cracks or failure of the primary load path components of the engine forward mount, and corrective action if necessary. This proposed AD also would require removing, re-installing, and re-torquing the attachment bolts for the secondary load path. This proposed AD results from a report that, during modification of certain engine forward mount assemblies of the left and right engines done at an engine shop visit, an incorrect torque was applied to the attachment bolts. We are proposing this AD to prevent structural failure of the secondary load path of the forward engine mount, which, if combined with failure of the primary load path, could result in separation of the engine from the airplane.

DATES: We must receive comments on this proposed AD by January 3, 2006.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility, U.S. Department of Transportation, 400 Seventh Street, SW., Nassif Building, room PL-401, Washington, DC 20590.

• Fax: (202) 493-2251.

• Hand Delivery: Room PL-401 on the plaza level of the Nassif Building, 400 Seventh Street, SW., Washington, DC, between 9 a.m. and 5 p.m., Monday through Friday, except Federal holidays.

Contact Airbus, 1 Rond Point Maurice Bellonte, 31707 Blagnac Cedex, France, for service information identified in this proposed AD.

FOR FURTHER INFORMATION CONTACT: Tim Dulin, Aerospace Engineer, International Branch, ANM-116, FAA, Transport Airplane Directorate, 1601 Lind Avenue, SW., Renton, Washington 98055-4056; telephone (425) 227-2141; fax (425) 227-1149.

SUPPLEMENTARY INFORMATION:

Comments Invited

We invite you to submit any relevant written data, views, or arguments regarding this proposed AD. Send your comments to an address listed in the ADDRESSES section. Include the docket number “FAA-2005-23142; Directorate Identifier 2005-NM-154-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of that Web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Discussion

The Direction Générale de l'Aviation Civile (DGAC), which is the airworthiness authority for France, notified us that an unsafe condition may exist on certain Airbus Model A319-131, -132, and -133 airplanes; Model A320-232 and -233 airplanes; and Model A321-131 and -231 airplanes. The DGAC advises that, during modification of certain forward engine mount assemblies of the left and right engines done at an engine shop visit, an incorrect torque was applied to the attachment bolts. Lower torque values used on the bolts reduce the bolt fatigue life. The bolts are part of a secondary thrust load path that is only active upon failure of the primary thrust load path. These conditions, if not corrected, could result in separation of the engine from the airplane.

Other Relevant Rulemaking

On November 30, 1999, we issued AD 99-25-10, amendment 39-11453 (64 FR 68623, December 8, 1999), for certain Airbus Model A319, A320, and A321 series airplanes. That AD requires a one-time inspection of the forward engine mount assembly of the left and right engines to verify that the part number on each assembly is correct; re-identification of the forward engine mount assembly; and follow-on actions, if necessary. That AD was prompted by issuance of mandatory continuing airworthiness information by a foreign civil airworthiness authority. We issued that AD to prevent structural failure of the secondary load path of the forward engine mount, which, if combined with failure of the primary load path, could result in separation of the engine from the airplane. When accomplishing the actions required by that AD during an engine shop visit, an incorrect torque was applied to the attachment bolts.

Relevant Service Information

Airbus has issued All Operators Telex (AOT) A320-71A1036, Revision 1, dated June 28, 2005. The AOT describes procedures for accomplishing a detailed inspection for cracks or failure of the primary load path components of the engine forward mount, and performing corrective action if necessary. The corrective action involves replacing defective components with new components. The AOT also describes procedures for removing, re-installing, and re-torquing the attachment bolts for the secondary load path. The AOT recommends reporting inspection results to the manufacturer.

The DGAC mandated the service information and issued French emergency airworthiness directive UF-2005-117, dated June 29, 2005, to ensure the continued airworthiness of these airplanes in France.

FAA's Determination and Requirements of the Proposed AD

These airplane models are manufactured in France and are type certificated for operation in the United States under the provisions of section 21.29 of the Federal Aviation Regulations (14 CFR 21.29) and the applicable bilateral airworthiness agreement. Pursuant to this bilateral airworthiness agreement, the DGAC has kept the FAA informed of the situation described above. We have examined the DGAC's findings, evaluated all pertinent information, and determined that we need to issue an AD for airplanes of this type design that are certificated for operation in the United States.

Therefore, we are proposing this AD, which would require accomplishing the actions specified in the service information described previously, except as discussed under “Difference Among French Airworthiness Directive, Proposed AD, and AOT.”

Differences Among French Emergency Airworthiness Directive, Proposed AD, and AOT

Although the DGAC issued an emergency airworthiness directive to address the unsafe condition of incorrect torque applied to the attachment bolts, we have determined that issuing an immediately adopted rule is not necessary. We have received confirmation that the affected U.S. fleet has accomplished the inspection of the primary load path in accordance with the AOT specified in the proposed AD. Therefore, we have determined that issuing a notice of proposed rulemaking will ensure that the identified unsafe condition is properly addressed.

Although the AOT referenced in this proposed AD recommends that inspection results be reported to the manufacturer, this proposed AD does not include that requirement.

Costs of Compliance

This proposed AD would affect about 131 airplanes of U.S. registry.

The proposed inspection would take about 2 work hours per airplane (1 work hour per engine), at an average labor rate of $65 per work hour. Based on these figures, the estimated cost of the proposed inspection for U.S. operators is $17,030, or $130 per airplane.

The proposed removal, re-installation, and re-torquing would take about 8 work hours per airplane (4 work hours per engine), at an average labor rate of $65 per work hour. Based on these figures, the estimated cost of the proposed adjustments for U.S. operators is $68,120, or $520 per airplane.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

Airbus: Docket No. FAA-2005-23142; Directorate Identifier 2005-NM-154-AD.

Comments Due Date

(a) The FAA must receive comments on this AD action by January 3, 2006.

Affected ADs

(b) None.

Applicability

(c) This AD applies to Airbus Model A319-131, -132, and -133 airplanes; Model A320-232 and -233 airplanes; and Model A321-131 and -231 airplanes; certificated in any category; as identified in Airbus All Operators Telex (AOT) A320-71A1036, Revision 1, dated June 28, 2005.

Unsafe Condition

(d) This AD results from a report that, during modification of certain engine forward mount assemblies of the left and right engines done at an engine shop visit, an incorrect torque was applied to the attachment bolts. We are issuing this AD to prevent structural failure of the secondary load path of the forward engine mount, which, if combined with failure of the primary load path, could result in separation of the engine from the airplane.

Compliance

(e) You are responsible for having the actions required by this AD performed within the compliance times specified, unless the actions have already been done.

Note 1: For the purposes of this AD, a detailed inspection is: “An intensive examination of a specific item, installation, or assembly to detect damage, failure, or irregularity. Available lighting is normally supplemented with a direct source of good lighting at an intensity deemed appropriate. Inspection aids such as mirror, magnifying lenses, etc., may be necessary. Surface cleaning and elaborate procedures may be required.”

Inspection and Corrective Action

(f) Perform a detailed inspection for cracks or failure of the primary load path components of the engine forward mount by doing all the applicable actions in accordance with the procedures in AOT A320-71A1036, Revision 1, dated June 28, 2005. Do any corrective action before further flight in accordance with the procedures in the AOT. Perform the actions at the time specified in paragraph (f)(1) or (f)(2) of this AD, as applicable.

(1) For Model A321-131 and -231 airplanes: Do the inspection within 5 days after the effective date of this AD.

(2) For Model A319-131, -132, and -133 airplanes: Do the inspection within 10 days after the effective date of this AD.

(g) For all airplanes: At the applicable time specified in paragraph (g)(1) or (g)(2) of this AD, remove, re-install, and re-torque each of the attachment bolts of the engine forward mount assembly in accordance with the procedures in AOT A320-71A1036, Revision 1, dated June 28, 2005.

(1) If the inspection specified in paragraph (f) of this AD was accomplished after the effective date of this AD: Do the actions within 2,250 flight cycles after accomplishing the inspection.

(2) If the inspection specified in paragraph (f) of this AD was accomplished before the effective date of this AD: Do the actions within 2,250 flight cycles after the effective date of this AD.

Actions Accomplished Previously

(h) Inspections, adjustments or repairs done before the effective date of this AD in accordance with the procedures in AOT A320-71A1036, dated June 27, 2005, are acceptable for compliance with the corresponding actions required by this AD.

No Reporting Required

(i) Although AOT A320-71A1036, Revision 1, dated June 28, 2005, recommends that inspection results be reported to the manufacturer, this AD does not include that requirement.

Alternative Methods of Compliance (AMOCs)

(j)(1) The Manager, International Branch, ANM-116, Transport Airplane Directorate, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Related Information

(k) French emergency airworthiness directive UF-2005-117, dated June 29, 2005, also addresses the subject of this AD.

Issued in Renton, Washington, on November 18, 2005.
Kalene C. Yanamura,
Acting Manager, Transport Airplane Directorate, Aircraft Certification Service.

[FR Doc. 05-23513 Filed 11-30-05; 8:45 am]

BILLING CODE 4910-13-P